DEPARTMENT OF COMMERCE

National Institute of Standards and Technology

Proposed Information Collection; Comment Request; National Cybersecurity Center of Excellence Participant Letter of Interest

AGENCY: National Institute of Standards and Technology (NIST), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 13, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Lucy Salah, 9600 Gudelsky Dr., Rockville, MD 20850 or Lucy.Salah@nist.gov.

SUPPLEMENTARY INFORMATION:

I. Abstract

In order to fulfill its core mission, the National Cybersecurity Center of Excellence (NCCoE) publishes announcements in the Federal Register of new collaborative projects to address cybersecurity challenges. In response to these announcements, technology vendors are invited to submit Letters of Interest (LoI) for technologies relevant to the challenge. These letters specify the product(s) that the potential collaborator is submitting for consideration, how the product(s) address(es) one or more of the requirements of the project, and contact information for the company's representative. Subsequent to the submission of LoIs, NIST invites companies with relevant technology to enter into a Collaborative Research and Development Agreement (CRADA) with NIST.

II. Method of Collection

Upon request, submitters are provided with questions in an electronic document that can be filled in, signed, and submitted via mail or electronic mail.

III. Data

OMB Control Number: 0693-XXXX.

Form Number(s): None.

Type of Review: New Information Collection.

Affected Public: Businesses or other for profit.

Estimated Number of Respondents: 100 per year.

Estimated Time per Response: 30 minutes.

Estimated Total Annual Burden Hours: 50 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 10, 2015.
Glenna Mickelson,
Management Analyst, Office of the Chief Information Officer.

[FR Doc. 2015-20015 Filed 8-13-15; 8:45 am]

BILLING CODE 3510-13-P